DEPARTMENT OF ENERGY

Federal Energy Regulatory Commission

Combined Notice of Filings

June 30, 2010.

Take notice that the Commission has received the following Natural Gas Pipeline Rate and Refund Report filings:

Docket Numbers: RP10-888-000.

Applicants: Northern Border Pipeline Company.

Description: Northern Border Pipeline Company submits Eighth Revised Sheet 100 et al to FERC Gas Tariff, First Revised Volume 1, to be effective 7/26/10.

Filed Date: 06/25/2010.

Accession Number: 20100628-0205.

Comment Date: 5 p.m. Eastern Time on Wednesday, July 07, 2010.

Docket Numbers: RP10-889-000.

Applicants: Equitrans, L.P.

Description: Equitrans, L.P. submits tariff filing per 154.403: Annual Electric Power Cost Tracker Surcharge Filing to be effective 8/1/2010.

Filed Date: 06/28/2010.

Accession Number: 20100628-5158.

Comment Date: 5 p.m. Eastern Time on Monday, July 12, 2010.

Docket Numbers: RP10-890-000.

Applicants: Questar Southern Trails Pipeline Company.

Description: Questar Southern Trails Pipeline Company submits tariff filing per 154.203: Baseline to be effective 6/28/2010.

Filed Date: 06/28/2010.

Accession Number: 20100628-5215.

Comment Date: 5 p.m. Eastern Time on Monday, July 12, 2010.

Docket Numbers: RP10-891-000.

Applicants: Dauphin Island Gathering Partners.

Description: Dauphin Island Gathering Partners submits the Fifty-Third Revised Sheet 9 et al to FERC Gas Tariff, First Revised Volume 1, to be effective 7/1/10.

Filed Date: 06/28/2010.

Accession Number: 20100629-0107.

Comment Date: 5 p.m. Eastern Time on Monday, July 12, 2010.

Docket Numbers: RP10-892-000.

Applicants: Great Lakes Gas Transmission Limited Partnership.

Description: Great Lakes Gas Transmission Limited Partnership submits tariff filing per 154.203: Baseline Filing to be effective 6/29/2010.

Filed Date: 06/29/2010.

Accession Number: 20100629-5060.

Comment Date: 5 p.m. Eastern Time on Monday, July 12, 2010.

Docket Numbers: RP10-893-000.

Applicants: Iroquois Gas Transmission System, L.P.

Description: Report/Form of Iroquois Gas Transmission System, L.P. under New Docket. Measurement Variance/Fuel Use Factors utilized by Iroquois during the period January 1, 2010 through June 30, 2010.

Filed Date: 06/29/2010.

Accession Number: 20100629-5067.

Comment Date: 5 p.m. Eastern Time on Monday, July 12, 2010.

Docket Numbers: RP10-894-000.

Applicants: Hardy Storage Company, LLC.

Description: Hardy Storage Company, LLC submits tariff filing per 154.203: Baseline Filing to be effective 6/29/2010.

Filed Date: 06/29/2010.

Accession Number: 20100629-5077.

Comment Date: 5 p.m. Eastern Time on Monday, July 12, 2010.

Docket Numbers: RP10-895-000.

Applicants: Kinder Morgan Interstate Gas Trans. LLC.

Description: Kinder Morgan Interstate Gas Transmission LLC submits Original Sheet 4G.06 to FERC Gas Tariff, Fourth Revised Volume 1A, to be effective 7/1/2010.

Filed Date: 06/29/2010.

Accession Number: 20100629-0119.

Comment Date: 5 p.m. Eastern Time on Monday, July 12, 2010.

Docket Numbers: RP10-897-000.

Applicants: Columbia Gas Transmission, LLC.

Description: Columbia Gas Transmission, LLC submits tariff filing per 154.204: Negotiated Rated Service Agreement—Rock Springs to be effective 7/1/2010.

Filed Date: 06/29/2010.

Accession Number: 20100629-5180.

Comment Date: 5 p.m. Eastern Time on Monday, July 12, 2010.

Any person desiring to intervene or to protest in any of the above proceedings must file in accordance with Rules 211 and 214 of the Commission's Rules of Practice and Procedure (18 CFR 385.211 and 385.214) on or before 5:00 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. 2010-16643 Filed 7-7-10; 8:45 am]

BILLING CODE 6717-01-P